DEPARTMENT OF TRANSPORTATION

Federal Aviation Administration

Notice to the Public on Proposed Cancellation of Non-Directional (NDB) Instrument Flight Procedures

AGENCY: Federal Aviation Administration.

The Federal Aviation Administration (FAA) is considering canceling the following Non-Directional Beacon (NDB) Instrument Approach Procedures:

Ted Stevens Anchorage Intl, Anchorage, AK (ANC), NDB Rwy 6R

Aniak, Aniak, AK (ANI), NDB-A

Wiley Post-Will Rogers Memorial, Barrow, AK (BRW), NDB Rwy 24

Wiley Post-Will Rogers Memorial, Barrow, AK (BRW), NDB Rwy 6

Bethel, Bethel, AK (BET), NDB Rwy 18

Bettles, Bettles, AK (BTT), NDB-A

Cold Bay, Cold Bay, AK (CDB), NDB Rwy 14

Merle K (Mudhole) Smith, Cordova, AK (CDV), NDB-A

Merle K (Mudhole) Smith, Cordova, AK (CDV), NDB/DME Rwy 27

Deadhorse, Deadhorse, AK (SCC), NDB-A

Dillingham, Dillingham, AK (DLG), NDB Rwy 1

Fairbanks International, Fairbanks, AK (FAI), NDB Rwy 19R

Fort Yukon, Fort Yukon, AK (FYU), NDB Rwy 21

Gulkana, Gulkana, AK (GKN), NDB-A

Gustavus, Gustavus, AK (GST), NDB-A

Homer, Homer, AK (HOM), NDB-A

Kenai Municipal, Kenai, AK (ENA), NDB-A

King Salmon, King Salmon, AK (AKN), NDB Rwy 11

Ralph Wein Memorial, Kotzebue, AK (OTZ), NDB-A

McGrath, McGrath, AK (MCG), NDB-B

Nome, Nome, AK (OME), NDB Rwy 27

St. George, St. George, AK (PBV), NDB-A

St. Mary's, St. Mary's, AK (KSM), NDB Rwy 16

St. Mary's, St. Mary's, AK (KSM), NDB/DME Rwy 16

St. Mary's, St. Mary's, AK (KSM), NDB Rwy 34

St. Paul Island, St. Paul Island, AK (SNP), NDB/DME Rwy 18

Talkeetna, Talkeetna, AK (TKA), NDB Rwy 36

Ralph M. Calhoun Memorial, Tanana, AK (TAL), NDB-B

Unalakleet, Unalakleet, AK (UNK), NDB Rwy 14

Yakutat, Yakutat, AK (YAK), NDB Rwy 11

Auburn-Opelika Robert G. Pitts, Auburn, AL (AUO), NDB Rwy 36

Bessemer, Bessemer, AL (EKY), NDB Rwy 5

Birmingham International, Birmingham, AL (BHM), NDB Rwy 24

Birmingham International, Birmingham, AL (BHM), NDB Rwy 6

Huntsville-Intl-Carl T. Jones Field, Huntsville, AL (HSV), NDB Rwy 18R

Mobile Regional, Mobile, AL (MOB), NDB Rwy 14

Tuscaloosa Regional, Tuscaloosa, AL (TCL), NDB Rwy 4

Fort Smith, Fort Smith, AR (FSM), NDB Rwy 25

Fort Smith Regional, Fort Smith, AR (FSM), NDB Rwy 7

Memorial Field, Hot Springs, AR (HOT), NDB Rwy 5

Adams Field, Little Rock, AR (LIT), NDB Rwy 22R

Adams Field, Little Rock, AR (LIT), NDB Rwy 4L

Kirk Field, Paragould, AR (PGR), NDB Rwy 4

Rogers Municipal-Carter Field, Rogers, AR (ROG), NDB Rwy 19 Searcy Municipal, Searcy, AR (SRC), NDB Rwy 1 Texarkana Regional-Webb Field, Texarkana, AR (TXK), NDB Rwy 22

Walnut Ridge Regional, Walnut Ridge, AR (ARG), NDB Rwy 18

West Memphis Municipal, West Memphis, AR (AWM), NDB Rwy 17

Chandler Municipal, Chandler, AZ (CHD), NDB Rwy 4R

Flagstaff Pulliam, Flagstaff, AZ (FLG), NDB/DME Rwy 21

Arcata, Arcata-Eureka, CA (ACV), NDB or GPS-A

Meadows Field, Bakersfield, CA (BFL), NDB Rwy 30R

Bob Hope, Burbank, CA (BUR), NDB Rwy 8

Fresno Yosemite International, Fresno, CA (FAT), NDB Rwy 29R

Fresno-Chandler Downtown, Fresno, CA (FCH), NDB or GPS-B

General Wm. J. Fox Airfield, Lancaster, CA (WJF), NDB-C

Long Beach (Daugherty Field), Long Beach, CA (LGB), NDB Rwy 30

Yuba County, Marysville, CA (MYV), NDB Rwy 14

Modesto City-County, Harry Sham Field, Modesto, CA (MOD), NDB Rwy 28R

Monterey Peninsula, Monterey, CA (MRY), NDB Rwy 10R

Metropolitan Oakland International, Oakland, CA (OAK), NDB Rwy 27R

Ontario International, Ontario, CA (ONT), NDB Rwy 26L

Red Bluff Municipal, Red Bluff, CA (RBL), NDB Rwy 33

Redding Municipal, Redding, CA (RDD), NDB Rwy 34

Sacramento Executive, Sacramento, CA (SAC), NDB Rwy 2

Sacramento International, Sacramento, CA (SMF), NDB Rwy 16L

Sacramento International, Sacramento, CA (SMF), NDB Rwy 16R

Sacramento International, Sacramento, CA (SMF), NDB Rwy 34L

San Diego International, San Diego, CA (SAN), NDB Rwy 27

San Diego International, San Diego, CA (SAN), NDB Rwy 9

John Wayne Airport-Orange County, Santa Ana, CA (SNA), NDB Rwy 1L

John Wayne Airport-Orange County, Santa Ana, CA (SNA), NDB Rwy 19R

Stockton Metropolitan, Stockton, CA (SCK), NDB Rwy 29R

Visalia Municipal, Visalia, CA (VIS), NDB Rwy 30

City Of Colorado Springs Municipal, Colorado Springs, CO (COS), NDB Rwy 35L

Centennial, Denver, CO (APA), NDB Rwy 35R

Fort Collins-Loveland Municipal, Fort Collins (Loveland), CO (FNL), NDB Rwy 33

Pueblo Memorial, Pueblo, CO (PUB), NDB Rwy 26R

Pueblo Memorial, Pueblo, CO (PUB), NDB Rwy 8L

Hartford-Brainard, Hartford, CT (HFD), NDB Rwy 2

Meriden Markham Municipal, Meriden, CT (MMK), NDB Rwy 36

Waterbury-Oxford, Oxford, CT (OXC), NDB Rwy 36

Bradley International, Windsor Locks, CT (BDL), NDB Rwy 6

Ronald Reagan Washington National, Washington, DC (DCA), NDB or GPS Rwy 1

Washington Dulles International, Washington, DC (IAD), NDB Rwy 1R

Summit, Middletown, DE (EVY, NDB or GPS-A

New Castle County, Wilmington, DE (ILG), NDB Rwy 1

Bob Sikes, Crestview, FL (CEW), NDB Rwy 17

Daytona Beach International, Daytona Beach, FL (DAB), NDB Rwy 7L

Fort Lauderdale Executive, Fort Lauderdale, FL (FXE), NDB Rwy 8

Fort Lauderdale-Hollywood International, Fort Lauderdale, FL (FLL), NDB Rwy 13

Page Field, Fort Myers, FL (FMY), NDB Rwy 5

Gainesville Regional, Gainesville, FL (GNV), NDB Rwy 28

Jacksonville International, Jacksonville, FL (JAX), NDB Rwy 31

Jacksonville International, Jacksonville, FL (JAX), NDB Rwy 7

Melbourne International, Melbourne, FL (MLB), NDB Rwy 9R

Miami International, Miami, FL (MIA), NDB Rwy 27

Naples Municipal, Naples, FL (APF), NDB Rwy 5

Naples Municipal, Naples, FL (APF), NDB Rwy 23

Ocala Regional/Jim Raylor Field, Ocala, FL (OCF), NDB Rwy 36

Executive, Orlando, FL (ORL), NDB Rwy 7

Kissimmee Gateway, Orlando, FL (ISM), NDB Rwy 15

Panama City-Bay County International, Panama City, FL (PFN), NDB Rwy 14

Pensacola Regional, Pensacola, FL (PNS), NDB Rwy 35

Pensacola Regional, Pensacola, FL (PNS), NDB Rwy 17

St. Petersburg-Clearwater International, St. Petersburg-Clearwater, FL (PIE), NDB Rwy 17L

Sarasota/Bradenton International, Sarasota (Bradenton), FL (SRQ), NDB Rwy 32

Tallahassee Regional, Tallahassee, FL (TLH), NDB Rwy 36

Tampa International, Tampa, FL (TPA), NDB or GPS Rwy 18L

Nasa Shuttle Landing Facility, Titusville, FL (X68), NDB-A (USAF)

Vero Beach Municipal, Vero Beach, FL (VRB), NDB Rwy 29L

Vero Beach Municipal, Vero Beach, FL (VRB), NDB Rwy 11R

Palm Beach International, West Palm Beach, FL (PBI), NDB Rwy 9L

Souther Field, Americus, GA (ACJ), NDB Rwy 23

Augusta Regional At Bush Field, Augusta, GA (AGS), NDB Rwy 35

Augusta Regional At Bush Field, Augusta, GA (AGS), NDB Rwy 17

Decatur County Industrial Airpark, Bainbridge, GA (BGE), NDB Rwy 27

Brunswick Golden Isles, Brunswick, GA (BQK), NDB Rwy 7

Malcolm-McKinnon, Brunswick, GA (SSI), NDB Rwy 4

Dalton Municipal, Dalton, GA (DNN), NDB Rwy 14

Douglas Municipal, Douglas, GA (DQH), NDB Rwy 4

W. H. Bud Barron, Dublin, GA (DBN), NDB Rwy 2

Greene County Regional, Greensboro, GA (3J7), NDB Rwy 24

Jackson County, Jefferson, GA (19A), NDB Rwy 34

Middle Georgia Regional, Macon, GA (MCN), NDB Rwy 5

Newnan-Coweta County, Newnan, GA (CCO), NDB Rwy 32

Savannah/Hilton Head International, Savannah, GA (SAV), NDB Rwy 9

Statesboro-Bulloch County, Statesboro, GA (TBR), NDB Rwy 32

Vidalia Regional, Vidalia, GA (VDI), NDB Rwy 24

Waycross-Ware County, Waycross, GA (AYS), NDB Rwy 18

Honolulu International, Honolulu, HI (HNL), NDB Rwy 8L

Kahului, Kahului, HI (OGG), NDB Rwy 20

Ames Municipal, Ames IA (AMW), NDB Rwy 1

Southeast Iowa Regional, Burlington, IA (BRL), NDB Rwy 36

The Eastern Iowa, Cedar Rapids, IA (CID), NDB Rwy 9

Clinton Municipal, Clinton, IA (CWI), NDB Rwy 3

Des Moines International, Des Moines, IA (DSM), NDB Rwy 31

Estherville Municipal, Estherville, IA (EST), NDB Rwy 34

Fort Dodge Regional, Fort Dodge, IA (FOD), NDB Rwy 6

Marshalltown Municipal, Marshalltown, IA (MIW), NDB Rwy 12

Mason City Municipal, Mason City, IA (MCW), NDB Rwy 35

Boise Air Terminal (Gowen Field), Boise, ID (BOI), NDB Rwy 10L

Boise Air Terminal (Gowen Field), Boise, ID (BOI), NDB Rwy 10R

Idaho Falls Regional, Idaho Falls, ID (IDA), NDB Rwy 20

Pocatello Regional, Pocatello, ID (PIH), NDB Rwy 21

Scott Afb/Midamerica, Belleville, IL (BLV), NDB Rwy 32R

Saint Louis Downtown, Cahokia/St. Louis, IL (CPS), NDB Rwy 30L

Chicago Midway International, Chicago, IL (MDW), NDB Rwy 4R

Chicago Midway International, Chicago, IL (MDW), NDB or GPS Rwy 31C

Chicago-O'Hare International, Chicago, IL (ORD), NDB Rwy 14L

Chicago-O'Hare International, Chicago, IL (ORD), NDB Rwy 27R

Chicago-O'Hare International, Chicago, IL (ORD), NDB Rwy 9R

Chicago-O'Hare International, Chicago, IL (ORD), NDB Rwy 14R

De Kalb Taylor Municipal, De Kalb, IL (DKB), NDB Rwy 27

Decatur, Decatur, IL (DEC), NDB Rwy 6

Greater Peoria Regional, Peoria, IL (PIA), NDB Rwy 31

Greater Rockford, Rockford, IL (RFD), NDB Rwy 1

Virgil I. Grissom Municipal, Bedford, IN (BFR), NDB Rwy 13

Virgil I. Grissom Municipal, Bedford, IN (BFR), NDB Rwy 31

Monroe County, Bloomington, IN (BMG), NDB Rwy 35

Mettel Field, Connersville, IN (CEV), NDB Rwy 18

Huntingburg, Huntingburg, IN (HNB), NDB Rwy 27

Indianapolis International, Indianapolis, IN (IND), NDB Rwy 5R

Indianapolis International, Indianapolis, IN (IND), NDB Rwy 23L

Indianapolis International, Indianapolis, IN (IND), NDB Rwy 32

Indianapolis International, Indianapolis, IN (IND), NDB Rwy 5L

Purdue University, Lafayette, IN (LAF), NDB Rwy 10

Terre Haute International-Hulman Field, Terre Haute, IN (HUF), NDB Rwy 5

Porter County Municipal, Valparaiso, IN (VPZ), NDB Rwy 27

Renner Field/Goodland Municipal, Goodland, KS (GLD), NDB Rwy 30

Hays Regional, Hays, KS (HYS), NDB Rwy 34

Hutchinson Municipal, Hutchinson, KS (HUT), NDB Rwy 13

Lawrence Municipal, Lawrence, KS (LWC), NDB Rwy 33

Newton-City-County, KS (EWK), NDB Rwy 17

Newton-City-County, KS (EWK), NDB Rwy 35

Johnson County Executive, Olathe, KS (OJC), NDB Rwy 36

Johnson County Executive, Olathe, KS (OJC), NDB Rwy 18

New Century Aircenter, Olathe, KS (IXD), NDB Rwy 35

Salina Municipal, Salina, KS (SLN), NDB Rwy 35

Forbes Field, Topeka, KS (FOE), NDB Rwy 13

Forbes Field, Topeka, KS (FOE), NDB Rwy 31

Philip Billard Municipal, Topeka, KS (TOP), NDB Rwy 13

Wichita Mid-Continent, Wichita, KS (ICT), NDB Rwy 1R

Strother Field, Winfield-Arkansas City, KS (WLD), NDB Rwy 35

Fleming-Mason, Flemingsburg, KY (FGX), NDB Rwy 25

Glasgow Municipal, Glasgow, KY (GLW), NDB Rwy 7

Blue Grass, Lexington, KY (LEX), NDB Rwy 22

Blue Grass, Lexington, KY (LEX), NDB Rwy 4

Louisville International-Standiford Field, Louisville, KY (SDF), NDB Rwy 29

Kyle-Oakley Field, Murray, KY (CEY), NDB Rwy 23

Owensboro-Daviess County, Owensboro, KY (OWB), NDB Rwy 36

Somerset-Pulaski County-J.T. Wilson Field, Somerset, KY (SME), NDB Rwy 4

Baton Rouge Metropolitan, Ryan Field, Baton Rouge, LA (BTR), NDB Rwy 13

Beauregard Parish, De Ridder, LA (DRI), NDB Rwy 36

Lake Charles Regional, Lake Charles, LA (LCH), NDB Rwy 15

Monroe Regional, Monroe, LA (MLU), NDB Rwy 4

Louis Armstrong New Orleans International, New Orleans, LA (MSY), NDB Rwy 10

Shreveport Regional, Shreveport, LA (SHV), NDB Rwy 14

Southland Field, Sulphur, LA (L75), NDB Rwy 15

Vicksburg Tallulah Regional, Tallulah/Vicksburg, LA (TVR), NDB Rwy 36

General Edward Lawrence Logan International, Boston, MA (BOS), NDB Rwy 4R

General Edward Lawrence Logan International, Boston, MA (BOS), NDB Rwy 22L

Barnstable Municipal-Boardman/Polando Field, Hyannis, MA (HYA), NDB Rwy 24

New Bedford Regional, New Bedford, MA (EWB), NDB Rwy 5

Norwood Memorial, Norwood, MA (OWD), NDB Rwy 35

Plymouth Municipal, Plymouth, MA (PYM), NDB Rwy 6

Provincetown Municipal, Provincetown, MA (PVC), NDB Rwy 25

Barnes Municipal, Westfield, MA (BAF), NDB Rwy 20

Worcester Regional, Worcester, MA (ORH), NDB Rwy 29

Martin State, Baltimore, MD (MTN), NDB Rwy 15

Martin State, Baltimore, MD (MTN), NDB Rwy 33

Montgomery County Airpark, Gaithersburg, MD (GAI), NDB Rwy 14

Bangor International, Bangor, ME (BGR), NDB Rwy 33

Portland International Jetport, Portland, ME (PWM), NDB Rwy 11

Gratiot Communicipality, Alma, MI (AMN), NDB Rwy 9

Antrim County, Bellaire, MI (ACB), NDB Rwy 2

Detroit Metropolitan Wayne County, Detroit, MI (DTW), NDB Rwy 27R

Detroit Metropolitan Wayne County, Detroit, MI (DTW), NDB Rwy 4R

Bishop International, Flint, MI (FNT), NDB Rwy 9

Gerald R. Ford International, Grand Rapids, MI (GRR), NDB Rwy 26L

Muskegon County, Muskegon, MI (MKG), NDB Rwy 32

Mbs International, Saginaw, MI (MBS), NDB Rwy 5

Chippewa County International, Sault Ste Marie, MI (CIU), NDB Rwy 16

Chandler Field, Alexandria, MN (AXN), NDB Rwy 31

Bemidji-Beltrami County, Bemidji, MN (BJI), NDB Rwy 31

Duluth International, Duluth, MN (DLH), NDB Rwy 9

Minneapolis-St Paul International (Wold-Chamberlain), Minneapolis, MN (MSP), NDB Rwy 30R

Minneapolis-St Paul International (Wold-Chamberlain), Minneapolis, MN (MSP), NDB Rwy 4

Minneapolis-St Paul International (Wold-Chamberlain), Minneapolis, MN (MSP), NDB Rwy 30L

Rochester International, Rochester, MN (RST), NDB Rwy 31

St Cloud Regional, St. Cloud, MN (STC), NDB Rwy 31

Ava Bill Martin Memorial, Ava, MO (AOV), NDB Rwy 31

Columbia Regional, Columbia, MO (COU), NDB Rwy 2

Dexter Municipal, Dexter, MO (DXE), NDB Rwy 36

Waynesville Regional Airport At Forney Field, Fort Leonard Wood, MO (TBN), NDB/DME Rwy 14

Waynesville Regional Airport At Forney Field, Fort Leonard Wood, MO (TBN), NDB Rwy 32

Jefferson City Memorial, Jefferson City, MO (JEF), NDB Rwy 12

Jefferson City Memorial, Jefferson City, MO (JEF), NDB Rwy 30

Joplin Regional, Joplin, MO (JLN), NDB Rwy 13

Lee C. Fine Memorial, Kaiser/Lake Ozark, MO (AIZ), NDB Rwy 21

Kansas City International, Kansas City, MO (MCI), NDB Rwy 1L

Kansas City International, Kansas City, MO (MCI), NDB Rwy 19L

Kansas City International, Kansas City, MO (MCI), NDB Rwy 9

Rosecrans Memorial, St. Joseph, MO (STJ), NDB Rwy 35

Rosecrans Memorial, St. Joseph, MO (STJ), NDB Rwy 17

Springfield-Branson Regional, Springfield, MO (SGF), NDB Rwy 2

Springfield-Branson Regional, Springfield, MO (SGF), NDB Rwy 14

Greenwood-Leflore, Greenwood, MS (GWO), NDB Rwy 18

Grenada Municipal, Grenada, MS (GNF), NDB Rwy 13

Gulfport-Biloxi International, Gulfport, MS (GPT), NDB Rwy 14

Hawkins Field, Jackson, MS (HKS), NDB Rwy 16

Jackson International, Jackson, MS (JAN), NDB Rwy 16L

Key Field, Meridian, MS (MEI), NDB Rwy 1

University-Oxford, Oxford, MS (UOX), NDB Rwy 9

Tupelo Regional, Tupelo, MS (TUP), NDB Rwy 36

Billings Logan International, Billings, MT (BIL), NDB Rwy 10L

Gallatin Field, Bozeman, MT (BZN), NDB Rwy 12

Wokal Field/Glasgow International, Glasgow, MT (GGW), NDB Rwy 30

Helena Regional, Helena, MT (HLN), NDB or GPS-D

Frank Wiley Field, Miles City, MT (MLS), NDB Rwy 4

Stanly County, Albemarle, NC (VUJ), NDB or GPS Rwy 22L

Asheville Regional, Asheville, NC (AVL), NDB Rwy 16

Asheville Regional, Asheville, NC (AVL), NDB Rwy 34

Michael J. Smith Field, Beaufort, NC (MRH), NDB Rwy 14

Michael J. Smith Field, Beaufort, NC (MRH), NDB Rwy 21

Burlington-Alamance Regional, Burlington, NC (BUY), NDB Rwy 6

Charlotte/Douglas International, Charlotte, NC (CLT), NDB Rwy 5

Sampson County, Clinton, NC (CTZ), NDB Rwy 6

Elizabeth City Coast Guard Air Station/Regional, Elizabeth City, NC (ECG), NDB Rwy 10

Fayetteville Regional/Grannis Field, Fayetteville, NC (FAY), NDB Rwy 4

Piedmont Triad International, Greensboro, NC (GSO), NDB Rwy 14

Pitt-Greenville, Greenville, NC (PGV), NDB Rwy 20

Hickory Regional, Hickory, NC (HKY), NDB Rwy 24

Ashe County, Jefferson, NC (GEV), NDB Rwy 28

Duplin County, Kenansville, NC (DPL), NDB Rwy 23

Kinston Regional Jetport At Stallings Field, Kinston, NC (ISO), NDB Rwy 5

Lincolnton-Lincoln County Regional, Lincolnton, NC (IPJ), NDB or GPS Rwy 23

Lumberton Municipal, Lumberton, NC (LBT), NDB Rwy 13

Lumberton Municipal, Lumberton, NC (LBT), NDB Rwy 5

Dare County Regional, Manteo, NC (MQI), NDB Rwy 17

Laurinburg-Maxton, Maxton, NC (MEB), NDB Rwy 5

Monroe Regional, Monroe, NC (EQY), NDB Rwy 5

Wilkes County, North Wilkesboro, NC (UKF), NDB Rwy 1

Raleigh-Durham International, Raleigh/Durham, NC (RDU), NDB Rwy 23L

Raleigh-Durham International, Raleigh/Durham, NC (RDU), NDB Rwy 5R

Rocky Mount-Wilson Regional, Rocky Mount, NC (RWI), NDB Rwy 4

Person County, Roxboro, NC (TDF), NDB Rwy 6

Rutherford County-Marchman Field, Rutherfordton, NC (FQD), NDB Rwy 1

Rowan County, Salisbury, NC (RUQ), NDB Rwy 20

Sanford Lee Co Regional, Sanford, NC (TTA), NDB Rwy 3

Shelby Municipal, Shelby, NC (EHO), NDB Rwy 5

Statesville Municipal, Statesville, NC (SVH), NDB Rwy 10

Warren Field, Washington, NC (OCW) NDB Rwy 5

Wilmington International, Wilmington, NC (ILM), NDB Rwy 35

Smith Reynolds, Winston-Salem, NC (INT), NDB Rwy 33

Devils Lake Municipal, Devils Lake, ND (DVL), NDB Rwy 31

Dickinson Municipal, Dickinson, ND (DIK), NDB Rwy 32

Hector International, Fargo, ND (FAR), NDB Rwy 17

Alliance Municipal, Alliance, NE (AIA), NDB Rwy 30

Beatrice Municipal, Beatrice, NE (BIE), NDB Rwy 13

Broken Bow Municipal, Broken Bow, NE (BBW), NDB Rwy 14

Chadron Municipal, Chadron, NE (CDR), NDB Rwy 20

Chadron Municipal, Chadron, NE (CDR), NDB Rwy 2

Columbus Municipal, Columbus, NE (OLU), NDB Rwy 14

Freemont Municipal, Fremont, NE (FET), NDB Rwy 13

Central Nebraska Regional, Grand Island, NE (GRI) NDB Rwy 35

Grant Municipal, Grant, NE (GGF), NDB Rwy 15

Hastings Municipal, Hastings, NE (HIS), NDB Rwy 14

Kearney Municipal, Kearney, NE (EAR), NDB Rwy 36

Jim Kelly Field, Lexington, NE (LXN), NDB Rwy 14

North Platte Regional/Airport Lee Bird Field, North Platte, NE (LBF), NDB Rwy 30

Eppley Airfield, Omaha, NE (OMA), NDB Rwy 14R

Eppley Airfield, Omaha, NE (OMA), NDB Rwy 32L

Berlin Municipal, Berlin, NH (BML), NDB Rwy 18

Skyhaven, Rochester, NH (DAW), NDB Rwy 33

Newark Liberty International, Newark, NJ (EWR), NDB Rwy 4L

Newark Liberty International, Newark, NJ (EWR), NDB Rwy 4R

Trenton Mercer, Trenton, NJ (TTN), NDB or GPS Rwy 6

Clovis Municipal, Clovis, NM (CVN), NDB Rwy 4

Las Cruces International, Las Cruces, NM (LRU), NDB Rwy 30

Raton Municipal/Crews Field, Raton, NM (RTN), NDB Rwy 2

Roswell Industrial Air Center, Roswell, NM (ROW), NDB Rwy 21

Santa Fe Municipal, Santa Fe, NM (SAF), NDB Rwy 2

Grant County, Silver City, NM (SVC), NDB Rwy 26

Buffalo Niagara International, Buffalo, NY (BUF), NSB Rwy 23

Elmira/Corning Regional, Elmira, NY (ELM), NDB Rwy 24

Randall, Middletown, NY, (06N), NDB Rwy 26

Orange County, Montgomery, NY (MGJ), NDB Rwy 3

La Guardia, New York, NY (LGA), NDB Rwy 22

La Guardia, New York, NY (LGA), NDB Rwy 4

Stewart International, Newburgh, NY (SWF), NDB Rwy 9

Niagara Falls International, Niagara Falls, NY (IAG), NDB or GPS Rwy 28R

Ogdensburg International, Ogdensburg, NY (OGS), NDB Rwy 27

Greater Rochester International, Rochester, NY (ROC), NDB Rwy 28

Syracuse Hancock International, Syracuse, NY (SYR), NDB Rwy 28

Oneida County, Utica, NY (UCA), NDB Rwy 33

Oneida County, Utica, NY (UCA), NDB or GPS Rwy 15

Francis S. Gabreski, Westhampton Beach, NY (FOK), NDB Rwy 24

Westchester County, White Plains, NY (HPN), NDB Rwy 16

Ohio University Snyder Field, Athens (Albany), OH (UNI), NDB Rwy 25

Bellefontaine Regional, Bellefontaine, OH (EDJ), NDB Rwy 07

Bellefontaine Regional, Bellefontaine, OH (EDJ), NDB Rwy 25

Cincinnati-Blue Ash, Cincinnati, OH (ISZ), NDB Rwy 24

Ohio State University, Columbus, OH (OSU), NDB Rwy 9R

Port Columbus International, Columbus, OH (CMH), NDB Rwy 28R

Port Columbus International, Columbus, OH (CMH), NDB Rwy 28L

Port Columbus International, Columbus, OH (CMH), NDB Rwy 10R

Port Columbus International, Columbus, OH (CMH), NDB Rwy 10L

James M. Cox Dayton International, Dayton, OH (DAY), NDB Rwy 6L

Toledo Express, Toledo, OH (TOL), NDB Rwy 7

Ardmore Municipal, Ardmore, OK (ADM), NDB Rwy 31

Bartlesville Municipal, Bartlesville, OK (BVO), NDB Rwy 17

Clinton-Sherman, Clinton, OK (CSM), NDB Rwy 17R

Eaker-Field, Durant, OK (DUA), NDB Rwy 35

El Reno Municipal Airpark, El Reno, OK (F28), NDB Rwy 35

Elk City Municipal, Elk City, OK (ELK), NDB Rwy 17

Enid Woodring Regional, Enid, OK (WDG) NDB Rwy 35

McAlester Regional, McAlester, OK (MLC), NDB Rwy 1

Davis Field, Muskogee, OK (MKO), NDB Rwy 31

University of Oklahoma Westheimer, Norman, OK (OUN), NDB Rwy 3

Will Rogers World, Oklahoma City, OK (OKC), NDB Rwy 17R

Will Rogers World, Oklahoma City, OK (OKC), NDB Rwy 35R

Will Rogers World, Oklahoma City, OK (OKC), NDB Rwy 35L

Okmulgee Regional, Okmulgee, OK (OKM), NDB Rwy 17

Ponca City Regional, Ponca City, OK (PNC), NDB Rwy 17

Stillwater Regional, Stillwater, OK (SWO), NDB Rwy 17

Tulsa International, Tulsa, OK (TUL), NDB Rwy 36R

Tulsa International, Tulsa, OK (TUL), NDB Rwy 18L

Corvallis Municipal, Corvallis, OR (CVO), NDB Rwy 17

Mahlon Sweet Field, Eugene, OR (EUG), NDB Rwy 16

Newport Municipal, Newport, OR (ONP), NDB Rwy 16

Roberts Field, Redmond, OR (RDM), NDB or GPS Rwy 22

Mcnary Field, Salem, OR (SLE), NDB Rwy 31

Lehigh Valley International, Allentown, PA (ABE), NDB Rwy 6

Philadelphia International, Philadelphia, PA (PHL), NDB Rwy 27L

Allegheny County, Pittsburgh, PA (AGC), NDB Rwy 28

Quakertown, Quakertown, PA (UKT), NDB or GPS Rwy 29

Reading Regional/Carl A. Spaatz, Reading, PA (RDG), NDB Rwy 36

Somerset County, Somerset, PA (2G9), NDB Rwy 24

Washington County, Washington, PA (AFJ), NDB or GPS Rwy 27

Luis Munoz Marin International, San Juan, PR (SJU), NDB Rwy 10

Theodore Francis Green State, Providence, RI (PVD), NDB Rwy 5

Charleston AFB/International, Charleston, SC (CHS), NDB Rwy 15

Charleston Executive, Charleston, SC (JZI), NDB Rwy 9

Florence Regional, Florence, SC (FLO), NDB Rwy 9

Greenville-Spartanburg International, Greer, SC (GSP), NDB Rwy 4

Grand Strand, North Myrtle Beach, SC (CRE), NDB Rwy 23

Rock Hill/York County/Bryant Field, Rock Hill, SC (UZA), NDB Rwy 2

Rapid City Regional, Rapid City, SD (RAP), NDB Rwy 32

Joe Foss Field, Sioux Falls, SD (FSD), NDB Rwy 3

Tri-Cities Regional, Bristol-Johnson-Kingsport, TN (TRI), NDB Rwy 23

Tri-Cities Regional, Bristol-Johnson-Kingsport, TN (TRI), NDB Rwy 05

Maury County, Columbia-Mount Pleasant, TN (MRC), NDB Rwy 24

Dickson Municipal, Dickson, TN (M02), NDB Rwy 17

Dyersburg Municipal, Dyersburg, TN (DYR), NDB Rwy 4

Fayetteville Municipal, Fayetteville, TN (FYM), NDB Rwy 20

Mckellar-Sipes Regional, Jackson, TN (MKL), NDB Rwy 2

Mcghee-Tyson, Knoxville, TN (TYS), NDB Rwy 5L

Warren County Memorial, McMinnville, TN (RNC), NDB Rwy 23

Memphis International, Memphis, TN (MEM), NDB Rwy 9

Nashville International, Nashville, TN (BNA), NDB Rwy 20R

Scott Municipal, Oneida, TN (SCX), NDB Rwy 23

Henry County, Paris, TN (PHT), NDB or GPS Rwy 2

Savannah-Hardin County, Savannah, TN (SNH), NDB Rwy 19

Abilene Regional, Abilene, TX (ABI), NDB Rwy 35R

Rick Husband Amarillo International, Amarillo, TX (AMA), NDB Rwy 4

Brazoria County, Angleton/Lake Jackson, TX (LBX), NDB Rwy 17

Southeast Texas Regional, Beaumont-Port Arthur, TX (BPT), NDB Rwy 12

Jones Field, Bonham, TX (F00), NDB Rwy 17

Brenham Municipal, Brenham, TX (11R), NDB Rwy 16

Brownsville/South Padre Island International, Brownsville, TX (BRO), NDB Rwy 13R

Easterwood Field, College Station, TX (CLL), NDB Rwy 34

Corpus Christi International, Corpus Christi, TX (CRP), NDB Rwy 13

Addison, Dallas, TX (ADS), NDB Rwy 15

Dallas-Fort Worth International, Dallas-Fort Worth, TX (DFW), NDB Rwy 35C

Dallas-Fort Worth International, Dallas-Fort Worth, TX (DFW), NDB Rwy 17R

Del Rio International, Del Rio, TX (DRT), NDB Rwy 13

El Paso International, El Paso, TX (ELP), NDB Rwy 22

Fort Worth International, Fort Worth, TX (FTW), NDB Rwy 16

Valley International, Harlingen, TX (HRL), NDB Rwy 17R

Valley International, Harlingen, TX (HRL), NDB Rwy 17L

David Wayne Hooks Memorial, Houston, TX (DWH), NDB Rwy 17R

Ellington Field, Houston, TX (EFD), NDB Rwy 22

George Bush Intercontinental Airport, Houston, TX (IAH), NDB Rwy 26

Houston-Southwest, Houston, TX (AXH), NDB Rwy 9

Sugar Land Regional, Houston, TX (SGR), NDB Rwy 35

Lubbock International, Lubbock, TX (LBB), NDB Rwy 26

Lubbock International, Lubbock, TX (LBB), NDB Rwy 17R

Angelina County, Lufkin, TX (LFK), NDB Rwy 7

McAllen Miller International, McAllen, TX (MFE), NDB Rwy 13

Midland International, Midland, TX (MAF), NDB Rwy 10

Mineral Wells, Mineral Wells, TX (MWL), NDB Rwy 31

Roy Hurd Memorial, Monahans, TX (E01), NDB Rwy 12

L. Mangham Jr. Regional, Nacogdoches, TX (OCH), NDB Rwy 36

Palestine Municipal, Palestine, TX (PSN), NDB Rwy 18

San Angelo Regional/Mathis Field, San Angelo, TX (SJT), NDB Rwy 3

San Antonio International, San Antonio, TX (SAT), NDB Rwy 3

San Antonio International, San Antonio, TX (SAT), NDB Rwy 12R

San Antonio International, San Antonio, TX (SAT), NDB Rwy 30L

San Marcos Municipal, San Marcos, TX (HYI), NDB Rwy 13

Tyler Pounds Regional, Tyler, TX (TYR), NDB Rwy 13

Tstc Waco, Waco, TX (CNW), NDB Rwy 17L

Waco Regional, Waco, TX (ACT), NDB Rwy 19

Cedar City Regional, Cedar City, UT (CDC), NDB Rwy 20

Charlottesville-Albemarle, Charlottesville, VA (CHO), NDB Rwy 3

Emporia-Greensville Regional, Emporia, VA (EMV), NDB Rwy 33

Mountain Empire, Marion/Wytheville, VA (MKJ), NDB Rwy 26

Blue Ridge, Martinsville, VA (MTV), NDB Rwy 30

Accomack County, Melfa, VA (MFV), NDB Rwy 3

Chesapeake Regional, Norfolk, VA (CPK), NDB Rwy 5

Dinwiddie County, Petersburg, VA (PTB), NDB Rwy 5

Hanover County Municipal, Richmond/Ashland, VA (OFP), NDB Rwy 16

Roanoke Regional/Woodrum Field, Roanoke, VA (ROA), NDB Rwy 33

Mecklenburg-Brunswick Regional, South Hill, VA (AVC), NDB Rwy 1

Shenandoah Valley Regional, Staunton-Waynesboro-Harrisonburg, VA (SHD), NDB or GPS Rwy 5

Suffolk Municipal, Suffold, VA (SFQ), NDB Rwy 4

Henry E Rohlsen, Christiansted, St. Croix, VI (STX), NDB Rwy 10

Burlington International, Burlington, VT (BTV), NDB Rwy 15

Bellingham International, Bellingham, WA (BLI), NDB Rwy 16

Snohomish County (Paine Field), Everett, WA (PAE), NDB Rwy 16R

Grant County International, Moses Lake, WA (MWH), NDB Rwy 32R

Seattle-Tacoma International, Seattle, WA (SEA), NDB Rwy 34R

Seattle-Tacoma International, Seattle, WA (SEA), NDB Rwy 16R

Spokane International, Spokane, WA (GEG), NDB Rwy 21

Walla Walla Regional, Walla Walla, WA (ALW), NDB Rwy 20

Outagamie County Regional, Appleton, WI (ATW), NDB Rwy 3

Outagamie County Regional, Appleton, WI (ATW), NDB Rwy 29

Austin Straubel International, Green Bay, WI (GRB), NDB Rwy 6

Sawyer County, Hayward, WI (HYR), NDB Rwy 20

Dane County Regional-Truax Field, Madison, WI (MSN), NDB Rwy 36

General Mitchell International, Milwaukee, WI (MKE), NDB Rwy 1L

General Mitchell International, Milwaukee, WI (MKE), NDB Rwy 7R

Wittman Regional, Oshkosh, WI (OSH), NDB Rwy 36

Sheboygan County Memorial, Sheboygan, WI (SBM), NDB Rwy 21

Shell Lake Municipal, Shell Lake, WI (SSQ), NDB Rwy 32

Greenbrier Valley, Lewisburg, WV (LWB), NDB Rwy 4

Natrona County International, Casper, WY (CPR), NDB Rwy 8

Gillette-Campbell County, Gillette, WY (GCC), NDB Rwy 34

Rock Springs-Sweetwater County, Rock Springs, WY (RKS), NDB-C

SUMMARY: The Federal Aviation Administration (FAA) is continuing to expand the availability and capability of area navigation (RNAV) to improve safety and efficiency within the National Airspace System (NAS). A major enhancement is the introduction of Wide Area Augmentation System (WAAS) capable RNAV instrument approach procedures that provide for near-precision vertical guidance.

The number of instrument approach procedures available to the public has nearly doubled over the past decade and will continue to grow with the public's demand for new WAAS procedures. The cost of maintaining the existing ground-based navigational infrastructure while expanding new RNAV capability is challenging to the FAA's projected budget over the next five years. Maintenance of existing ground-based procedures places the greatest strain on limited FAA resources.

To meet the public's demand for WAAS capable RNAV procedures, the FAA must manage the growth in the number of instrument approach procedures by eliminating redundant ground-based procedures. Specifically, the agency has identified NDB procedures for cancellation at runway ends that are also served by an RNAV procedure and a second ground-based procedure (i.e., a ground-based procedure other than the NDB). The FAA resources currently used to maintain these NDB procedures will be applied to the development of new WAAS capable RNAV procedures in the NAS.

DATES Please submit, in writing, any comments regarding the impact of the proposed NDB procedure cancellations on or before April 4, 2005.

This proposal is subject to change after review of public comments.

ADDRESSES: Please address all comments concerning this notice to following mailing address: DOT/FAA Mike Monroney Aeronautical Center, National Flight Procedures Office, PO Box 25082, Building 5 (ANF-1), Room 101, Oklahoma City, OK 73125 or physical address for overnight submissions as follows: DOT/FAA Mike Monroney Aeronautical Center, National Flight Procedures Office, 6500 S. MacArthur, Building 5 (ANF-1), Room 101, Oklahoma City, OK 73169.

SUPPLEMENTARY INFORMATION: You may submit comments by sending electronic mail (e-mail) to debra.e.sullivan@faa.gov.

FOR FURTHER INFORMATION CONTACT: Debra Sullivan, 405-954-3027.

Issued in Oklahoma City, Oklahoma, on February 22, 2005.
Thomas C. Accardi,
Director of Aviation System Standards.

[FR Doc. 05-4135 Filed 3-2-05; 8:45 am]

BILLING CODE 4910-13-M